DEPARTMENT OF HOMELAND SECURITY

Federal Emergency Management Agency

[Docket ID FEMA-2014-0002; Internal Agency Docket No. FEMA-B-1423]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison. Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Houston | City of Dothan (14-04-2072P) | The Honorable Mike Schmitz, Mayor, City of Dothan, P.O. Box 2128, Dothan, AL 36302 | Engineering Department, 126 North St. Andrews Street, Dothan, AL 36302 | http://www.msc.fema.gov/lomc | September 11, 2014 | 010104
Madison | City of Huntsville (14-04-3285P) | The Honorable Tommy Battle, Mayor, City of Huntsville, P.O. Box 308, Huntsville, AL 35801 | Engineering Department, 320 Fountain Circle, Huntsville, AL 35804 | http://www.msc.fema.gov/lomc | October 3, 2014 | 010153
Arizona: Mohave | Unincorporated areas of Mohave County (14-09-0399P) | The Honorable Gary Watson, Chairman, Mohave County Board of the Supervisors, 700 West Beale Street, Kingman, AZ 86402 | Mohave County Planning Department, 700 West Beale Street, Kingman, AZ 86402 | http://www.msc.fema.gov/lomc | August 29, 2014 | 040058
California:
Riverside | City of Corona (13-09-3138P) | The Honorable Karen Spiegel, Mayor, City of Corona, 400 South Vincentia Avenue, Corona, CA 92882 | City Hall, 400 South Vincentia Avenue, Corona, CA 92882 | http://www.msc.fema.gov/lomc | August 18, 2014 | 060250
Riverside | Unincorporated areas of Riverside County (13-09-3138P) | The Honorable Jeff Stone, Chairman, Riverside County Board of Supervisors, 4080 Lemon Street, 5th Floor, Riverside, CA 95201 | Riverside County Flood Control and Water Conservation District, 1995 Market Street, Riverside, CA 95201 | http://www.msc.fema.gov/lomc | August 18, 2014 | 060245
San Bernardino | City of Apple Valley (13-09-2728P) | The Honorable Art Bishop, Mayor, City of Apple Valley, 14955 Dale Evans Parkway, Apple Valley, CA 92307 | Engineering Department, 14955 Dale Evans Parkway, Apple Valley, CA 92307 | http://www.msc.fema.gov/lomc | August 15, 2014 | 060752
San Bernardino | City of Hesperia (13-09-2728P) | The Honorable Thurston Smith, Mayor, City of Hesperia, 9700 7th Avenue, Hesperia, CA 92345 | City Hall, 9700 7th Avenue, Hesperia, CA 92345 | http://www.msc.fema.gov/lomc | August 15, 2014 | 060733
San Bernardino | City of Victorville (13-09-2728P) | The Honorable Jim Cox, Mayor, City of Victorville, P.O. Box 5001, Victorville, CA 92393 | Engineering Division, Public Works Department, 14343 Civic Drive, Victorville, CA 92393 | http://www.msc.fema.gov/lomc | August 15, 2014 | 065068
San Bernardino | Unincorporated areas of San Bernardino County (13-09-2728P) | The Honorable Janice Rutherford, Chair, San Bernardino County Board of Supervisors, 385 North Arrowhead Avenue, 5th Floor, San Bernardino, CA 92415 | San Bernardino County Public Works Department, 825 East 3rd Street, San Bernardino, CA 92415 | http://www.msc.fema.gov/lomc | August 15, 2014 | 060270
San Diego | City of San Marcos (13-09-2932P) | The Honorable Jim Desmond, Mayor, City of San Marcos, 1 Civic Center Drive, San Marcos, CA 92069 | City Hall, 1 Civic Center Drive, San Marcos, CA 92069 | http://www.msc.fema.gov/lomc | August 21, 2014 | 060296
San Diego | Unincorporated areas of San Diego County (13-09-2932P) | The Honorable Dianne Jacob, Chair, San Diego County Board of Supervisors, 1600 Pacific Highway, Suite 335, San Diego, CA 92101 | San Diego County Department of Public Works, 5510 Overland Avenue, Suite 410, San Diego, CA 92123 | http://www.msc.fema.gov/lomc | August 21, 2014 | 060284
Colorado:
Adams | City of Thornton (14-08-0032P) | The Honorable Heidi Williams, Mayor, City of Thornton, 9500 Civic Center Drive, Thornton, CO 80229 | City Hall, 9500 Civic Center Drive, Thornton, CO 80229 | http://www.msc.fema.gov/lomc | August 29, 2014 | 080007
Arapahoe | City of Centennial (13-08-1142P) | The Honorable Cathy Noon, Mayor, City of Centennial, 13133 East Arapahoe Road, Centennial, CO 80112 | Southeast Metro Stormwater Authority, 76 Inverness Drive East, Suite A, Centennial, CO 80112 | http://www.msc.fema.gov/lomc | September 5, 2014 | 080315
Arapahoe | Unincorporated areas of Arapahoe County (13-08-1142P) | The Honorable Nancy Doty, Chair, Arapahoe County Board of Commissioners, 5334 South Prince Street, Littleton, CO 80120 | Arapahoe County Public Works and Development Department, 6924 South Lima Street, Centennial, CO 80112 | http://www.msc.fema.gov/lomc | September 5, 2014 | 080011
Boulder | City of Longmont (13-08-1185P) | The Honorable Dennis L. Coombs, Mayor, City of Longmont, 350 Kimbark Street, Longmont, CO 80501 | Public Works Department, 1100 South Sherman Street, Longmont, CO 80501 | http://www.msc.fema.gov/lomc | August 21, 2014 | 080027
Boulder | Unincorporated areas of Boulder County (13-08-1185P) | The Honorable Cindy Domenico, Chair, Boulder County Board of Commissioners, P.O. Box 471, Boulder, CO 80306 | Boulder County Transportation Department, 2525 13th Street, Suite 203, Boulder, CO 80306 | http://www.msc.fema.gov/lomc | August 21, 2014 | 080023
Douglas | Town of Castle Rock (13-08-1316P) | The Honorable Paul Donahue, Mayor, Town of Castle Rock, 100 North Wilcox Street, Castle Rock, CO 80104 | Utilities Department, 175 Kellogg Court, Castle Rock, CO 80109 | http://www.msc.fema.gov/lomc | September 5, 2014 | 080050
Douglas | Unincorporated areas of Douglas County (13-08-1316P) | The Honorable Roger Partridge, Chairman, Douglas County Board of Commissioners, 100 3rd Street, Castle Rock, CO 80104 | Douglas County Public Works Department, 100 3rd Street, Castle Rock, CO 80104 | http://www.msc.fema.gov/lomc | September 5, 2014 | 080049
Florida:
Brevard | City of Cocoa Beach (13-04-8100P) | The Honorable Dave Netterstrom, Mayor, City of Cocoa Beach, 2 South Orlando Avenue, Cocoa Beach, FL 32931 | Building Department, 2 South Orlando Avenue, Cocoa Beach, FL 32931 | http://www.msc.fema.gov/lomc | September 11, 2014 | 125097
Brevard | Unincorporated areas of Brevard County (13-04-8100P) | The Honorable Mary Bolin Lewis, Chair, Brevard County Board of Commissioners, 2725 Judge Fran Jamieson Way, Viera, FL 32940 | Brevard County Public Works Department, 2725 Judge Fran Jamieson Way, Viera, FL 32940 | http://www.msc.fema.gov/lomc | September 11, 2014 | 125092
Collier | City of Naples (14-04-0880P) | The Honorable John Sorey, III, Mayor, City of Naples, 735 8th Street South, Naples, FL 34102 | Building Department, 295 Riverside Circle, Naples, FL 34102 | http://www.msc.fema.gov/lomc | August 11, 2014 | 125130
Manatee | City of Bradenton (14-04-1057P) | The Honorable Wayne H. Poston, Mayor, City of Bradenton, 101 Old Main Street, Bradenton, FL 34205 | City Hall, 101 Old Main Street, Bradenton, FL 34205 | http://www.msc.fema.gov/lomc | August 29, 2014 | 120155
Monroe | Unincorporated areas of Monroe County (14-04-1710P) | The Honorable Sylvia Murphy, Mayor, Monroe County, 1100 Simonton Street, Key West, FL 33040 | Monroe County Department of Planning and Environmental Resources, 2798 Overseas Highway, Marathon, FL 33050 | http://www.msc.fema.gov/lomc | August 11, 2014 | 125129
Monroe | Unincorporated areas of Monroe County (14-04-2295P) | The Honorable Sylvia Murphy, Mayor, Monroe County, 1100 Simonton Street, Key West, FL 33040 | Monroe County Department of Planning and Environmental Resources, 2798 Overseas Highway, Marathon, FL 33050 | http://www.msc.fema.gov/lomc | August 11, 2014 | 125129
Monroe | Unincorporated areas of Monroe County (14-04-3390P) | The Honorable Sylvia Murphy, Mayor, Monroe County, 1100 Simonton Street, Key West, FL 33040 | Monroe County Department of Planning and Environmental Resources, 2798 Overseas Highway, Marathon, FL 33050 | http://www.msc.fema.gov/lomc | August 15, 2014 | 125129
Osceola | Unincorporated areas of Osceola County (13-04-8297P) | The Honorable Fred Hawkins, Jr., Chairman, Osceola County Board of Commissioners, 1 Courthouse Square, Kissimmee, FL 34741 | Osceola County Stormwater Section, 1 Courthouse Square, Kissimmee, FL 34741 | http://www.msc.fema.gov/lomc | September 5, 2014 | 120189
Sarasota | City of Sarasota (13-04-5178P) | The Honorable Shannon Snyder, Mayor, City of Sarasota, 1565 1st Street, Sarasota, FL 34236 | City Hall, 1565 1st Street, Sarasota, FL 34236 | http://www.msc.fema.gov/lomc | August 29, 2014 | 125150
Seminole | Unincorporated areas of Seminole County (14-04-2923P) | The Honorable Bob Dallari, Chairman, Seminole County Board of Commissioners, 1101 East 1st Street, Sanford, FL 32771 | Seminole County Public Works Department, 1101 East 1st Street, Sanford, FL 32771 | http://www.msc.fema.gov/lomc | August 15, 2014 | 120289
Sumter | City of Wildwood (14-04-2261P) | The Honorable Ed Wolf, Mayor, City of Wildwood, 100 North Main Street, Wildwood, FL 34785 | Development Services Department, 100 North Main Street, Wildwood, FL 34785 | http://www.msc.fema.gov/lomc | August 8, 2014 | 120299
Sumter | Unincorporated areas of Sumter County (14-04-2261P) | The Honorable Al Butler, Chairman, Sumter County Board of Commissioners, 7375 Powell Road, Wildwood, FL 34785 | Sumter County Development Department, 7375 Powell Road, Wildwood, FL 34785 | http://www.msc.fema.gov/lomc | August 8, 2014 | 120296
Georgia: Columbia | Unincorporated areas of Columbia County (14-04-3712P) | The Honorable Ron C. Cross, Chairman, Columbia County Board of Commissioners, P.O. Box 498, Evans, GA 30809 | Columbia County Planning Commission, 650-B Ronald Reagan Drive, Evans, GA 30809 | http://www.msc.fema.gov/lomc | September 11, 2014 | 130059
Kansas:
Johnson | City of Overland Park (13-07-2288P) | The Honorable Carl Gerlach, Mayor, City of Overland Park, 8500 Santa Fe Drive, Overland Park, KS 66212 | City Hall, 8500 Santa Fe Drive, Overland Park, KS 66212 | http://www.msc.fema.gov/lomc | August 27, 2014 | 200174
Johnson | Unincorporated areas of Johnson County (13-07-2288P) | The Honorable Ed Eilert, Chairman, Johnson County Board of Commissioners, 111 South Cherry, Suite 3300, Olathe, KS 66061 | Johnson County Courthouse, Planning Office, 111 South Cherry, Suite 3500, Olathe, KS 66061 | http://www.msc.fema.gov/lomc | August 27, 2014 | 200159
Kentucky: Fayette | Lexington-Fayette Urban County Government (13-04-3690P) | The Honorable Jim Gray, Mayor, Lexington-Fayette Urban County Government, 200 East Main Street, Lexington, KY 40507 | Lexington-Fayette Urban County Government, Division of Planning, 101 East Vine Street, Lexington, KY 40507 | http://www.msc.fema.gov/lomc | August 18, 2014 | 210067
Montana: Silver Bow | Unincorporated areas of Butte-Silver Bow County (13-08-1393P) | The Honorable Cindi Shaw, Chair, Butte-Silver Bow County Council of Commissioners, 155 West Granite Street, Butte, MT 59701 | Butte-Silver Bow County Floodplain Administrator, 155 West Granite Street, Butte, MT 59701 | http://www.msc.fema.gov/lomc | August 29, 2014 | 300077
North Carolina:
Buncombe | City of Asheville (14-04-3620P) | The Honorable Esther E. Manheimer, Mayor, City of Asheville, P.O. Box 7148, Asheville, NC 28802 | Public Works Department, 161 South Charlotte Street, Asheville, NC 28802 | http://www.msc.fema.gov/lomc | September 2, 2014 | 370032
Buncombe | Unincorporated areas of Buncombe County (14-04-3019P) | The Honorable David Gantt Chairman, Buncombe County Board of Commissioners, 200 College Street, Room 316, Asheville, NC 28801 | Buncombe County Planning Department, 46 Valley Street, Asheville, NC 28801 | http://www.msc.fema.gov/lomc | July 11, 2014 | 370031
Guilford | City of Greensboro (14-04-4489P) | The Honorable Nancy Vaughn, Mayor, City of Greensboro, P.O. Box 3136, Greensboro, NC 27402 | Water Resources Department, Stormwater Management Division, Planning and Engineering Section, 2602 South Elm-Eugene Street, Greensboro, NC 27406 | http://www.msc.fema.gov/lomc | August 12, 2014 | 375351
Mecklenburg | Town of Davidson (12-04-5664P) | The Honorable John Woods, Mayor, Town of Davidson, P.O. Box 1929, Davidson, NC 28036 | Planning Department, 216 South Main Street, Davidson, NC 28036 | http://www.msc.fema.gov/lomc | August 15, 2014 | 370503
Mecklenburg | Unincorporated areas of Mecklenburg County (12-04-5664P) | Ms. Dena Diorio, Mecklenburg County Manager, 600 East 4th Street, Charlotte, NC 28202 | Mecklenburg County Planning Department, 600 East 4th Street, Charlotte, NC 28202 | http://www.msc.fema.gov/lomc | August 15, 2014 | 370158
South Carolina: Greenville | Unincorporated areas of Greenville County (13-04-8105P) | The Honorable Bob Taylor, Chairman, Greenville County Council, 301 University Ridge, Suite 2400, Greenville, SC 29601 | Greenville County Code Department, 301 University Ridge, Suite 4100, Greenville, SC 29601 | http://www.msc.fema.gov/lomc | August 15, 2014 | 450089
South Dakota: Pennington | City of Rapid City (13-08-1321P) | The Honorable Sam Kooiker, Mayor, City of Rapid City, 300 6th Street, Rapid City, SD 57701 | Planning Department, 300 6th Street, Rapid City, SD 57701 | http://www.msc.fema.gov/lomc | August 21, 2014 | 465420

(Catalog of Federal Domestic Assistance No. 97.022, “Flood Insurance.”)

Dated: June 17, 2014.
Roy E. Wright,
Deputy Associate Administrator for Mitigation, Department of Homeland Security, Federal Emergency Management Agency.

[FR Doc. 2014-15830 Filed 7-7-14; 8:45 am]

BILLING CODE 9110-12-P